DEPARTMENT OF TRANSPORTATION

Federal Aviation Administration

Notice of Airport Level Designation for John F. Kennedy International Airport for the Summer 2008 Scheduling Season

AGENCY: Federal Aviation Administration (FAA), Department of Transportation.

ACTION: Notice of schedule coordination.

SUMMARY: Under this notice, the FAA announces that New York's John F. Kennedy International Airport (JFK) has been designated a Level 3 Coordinated Airport for the summer 2008 scheduling season in accordance with the International Air Transport Association (IATA) Worldwide Scheduling Guidelines. This notice supercedes the September 24, 2007, notice that designated JFK a Level 2 Schedules Facilitated Airport. 72 FR 54317. Based on a recently completed capacity analysis, a review of last summer's demand, the projections for summer 2008, and the agency's decision to seek voluntary schedule reductions from domestic air carriers, the FAA has determined that a Level 3 airport declaration is warranted. The primary coordination constraint is runway/air traffic control capacity.

JFK is experiencing increased congestion and delay. Comparing the period of October 2006 through July 2007 to the same period in the previous year, the average daily operations at JFK increased 23 percent; the average daily arrivals with delays greater than one hour increased 114 percent; and on-time gate arrivals within 15 minutes of scheduled time decreased from 69.7 percent to 61.2 percent. The average taxi-out delay increased 19 percent from 30 to almost 36 minutes. On-time departures within 15 minutes of scheduled time declined from 74.7 percent to 65.2 percent. Much of this delay is attributed to volume and is not likely to be entirely mitigated by short-term air traffic control procedural enhancements, airport or airspace efficiency gains, or airport infrastructure changes. For example, from February 2007 through July 2007, JFK's average airport capacity was 81 operations per hour while demand during the busiest hour, 4 p.m., was over 110 scheduled arrivals and departures during summer 2007. Adjacent hours had fewer scheduled flights but still above the average hourly capacity rate.

Under a preliminary review of the schedule submissions for summer 2008, the FAA notes that there are proposed schedule increases by domestic carriers and foreign flag carriers. These proposed schedules will result in a significant increase of operations at JFK. While JFK has available capacity for additional flights during some periods of the day, certain hours are currently beyond capacity and would get only worse if the schedules were implemented as proposed. Thus, based on the level of congestion experienced this past summer season, the planned increases for next summer, and the decision to seek voluntary reductions of existing schedules from domestic operators through a scheduling reduction meeting,¹ an immediate Level 3 designation is warranted.

¹ In accordance with 49 U.S.C. 41722, the FAA Acting Administrator and the Secretary of Transportation have determined that a scheduling reduction meeting is needed to address peak hour schedules that exceed capacity. The meeting will begin on October 23, 2007. Notice of the meeting was published in the Federal Register on October 22, 2007.

The FAA has established a target of 80 total operations per hour at JFK from 6 a.m. through 9:59 p.m., local time, except for the hours between 3 p.m. and 7:59 p.m., when the target will be 81 total operations per hour. A copy of the notice including additional details of the FAA analyses and the airport's capacity is available on the FAA Web site at http://www.faa.gov and in Docket No. FAA-2007-29320.

Under this Level 3 designation, the FAA will accept the schedule information previously submitted to the FAA. The FAA will grant historic status for the operations of foreign flag air carriers based on their summer 2007 flights if requested for summer 2008. For domestic air carriers, the base level of operations, both international and domestic, will be determined as part of the scheduling reduction meeting process. The FAA will continue to seek voluntary solutions to accommodate flight requests but overall demand must be within the airport's practical capacity if there is to be a successful reduction of delays. Carriers with new flights planned for peak hours should consider alternative schedules, especially for those planned in the late afternoon and evening hours.

ADDRESSES: Any change to schedule information for summer 2008 may be submitted by mail to Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: Komal K. Jain, Regulations Division, Office of the Chief Counsel, Federal Aviation Administration, 800 Independence Avenue, SW., Washington, DC 20591; telephone number: 202-267-3073.

Issued in Washington, DC on October 19, 2007.
Rebecca B. MacPherson,
Assistant Chief Counsel for Regulations.

[FR Doc. 07-5269 Filed 10-22-07; 9:30 am]

BILLING CODE 4910-13-M